DEPARTMENT OF THE INTERIOR

National Park Service

[NPS-WASO-CR-23620; PPWOCRADIO, PCU00RP14.R50000 (177)]

Agency Information Collection Activities: Procedures for State, Tribal, Local, Plans & Grants

AGENCY: National Park Service, Interior.

ACTION: Notice; request for comments.

SUMMARY: We (National Park Service, NPS) will ask the Office of Management and Budget (OMB) to approve the information collections (IC) described below. As required by the Paperwork Reduction Act of 1995 and as part of our continuing efforts to reduce paperwork and respondent burden, we invite the general public and other Federal agencies to take this opportunity to comment on this IC. This IC is scheduled to expire on October 31, 2017. We may not conduct or sponsor and a person is not required to respond to a collection of information unless it displays a currently valid OMB control number.

DATES: To ensure that we are able to consider your comments on these ICs, we must receive them by September 25, 2017.

ADDRESSES: Send your comments on the IC to Tim Goddard, Information Collection Clearance Officer, National Park Service, 12201 Sunrise Valley Drive, MS-242, Reston, VA 20192 (mail); or tim_goddard@nps.gov (email). Please include “1024-0038” in the subject line of your comments.

FOR FURTHER INFORMATION CONTACT: To request additional information about these ICs, contact Kristine Brunsman, Project Coordinator, State, Tribal, Local, Plans and Grants, Cultural Resources Partnerships and Science, National Park Service, 1849 C St. NW., Mailstop 7360, Washington, DC 20240; via fax at (202) 371-1961, or via email to preservation_grants_info@nps.gov.

SUPPLEMENTARY INFORMATION:

I. Abstract

This set of information collections has an impact on State, Tribal, and local governments that wish to participate formally with the National Park Service (NPS) in the National Historic Preservation Partnership (NHPP) Program, and State and Tribal governments that wish to apply for Historic Preservation Fund (HPF) grants. The NPS uses the information collections to ensure compliance with the National Historic Preservation Act, as amended (54 U.S.C. 300101, et seq.), as well as government-wide grant requirements OMB has issued and the Department of the Interior implements through 43 CFR part 12. The information collections also produce performance data NPS uses to assess its progress in meeting its statutory mission goals pursuant to the1993 Government Performance and Results Act, as amended. This request for OMB approval includes local government burden for information collections associated with various aspects of the Certified Local Government (CLG) program; State government burden for information collections related to the CLG program; the program-specific aspects of HPF grants to States, maintenance of a State inventory of historic and prehistoric properties, tracking State Historic Preservation Office historic preservation consultation with Federal agencies, developing the Statewide Historic Preservation Plan, reporting on other State historic preservation accomplishments, the State role in the State program review process, and evaluating NPS-provided program, grants management, and CLG training for State officials; and Tribal government burden for information collections related to the program-specific aspects of both HPF grants to Tribal Historic Preservation Officers/Offices (THPOs) and HPF-supported Tribal Heritage Grants.

This request includes information collections related to HPF grants to States and to THPOs. Section 101(b) of the National Historic Preservation Act, as amended, (54 U.S.C. 302301), specifies the role of States in the NHPP Program. Section 101(c), section 103(c), and section 301 of the Act (54 U.S.C. 302502, 54 U.S.C. 302902, and 54 U.S.C. 300301), specify the role of local governments in the NHPP program. Section 101(d) of the Act (54 U.S.C. 302701) specifies the role of tribes in the NHPP Program. Section 108 of the Act (54 U.S.C. 303101) created the HPF to support activities that carry out the purposes of the Act. Section 101(e)(1) of the Act (54 U.S.C. 302902) directs the Secretary of the Interior through the NPS to “administer a program of matching grants to the States for the purposes of carrying out” the Act. Similarly, sections 101(d) and 101(e) of the Act direct the NPS to administer a program of grants to THPOs for carrying out their responsibilities under the Act. Section 101(e) of the Act also authorizes Tribal Heritage Grants for which THPOs and, as Section 301 defines the terms, other tribes, native Alaskan corporations, and native Hawaiian groups are eligible to apply. Section 101j of the Act (54 U.S.C. 303903) directs NPS to provide historic preservation-related education and training.

Each year Congress directs the NPS to use part of the annual appropriation from the HPF for the State grant program and the Tribal grant programs. The purpose of both the HPF State grant program and the HPF THPO grant program is to assist States and Tribes in carrying out their statutory role in the national historic preservation program. HPF grants to States and THPOs are program grants; i.e., each State/THPO selects its own HPF-eligible activities and projects. Each HPF grant to a State/THPO has two years of fund availability. At the end of the first year, NPS employs a “Use or Lose” policy to ensure efficient and effective use of the grant funds. Each year, Congress also funds the Tribal Heritage competitive project grants to help preserve the cultural heritage of tribes, native Alaskan Corporations, and native Hawaiian organizations. All 59 states, territories, and the District of Columbia participate in the NHPP Program. Almost 2,000 local governments have become Certified Local Governments (CLGs) in order to participate in the NHPP program. Approximately 30 local governments become CLGs each year. Almost 170 federally-recognized tribes have formally joined the NHPP Program and have established THPOs and tribal historic preservation offices. Typically, each year six to nine tribes join the partnership.

The NPS developed the information collections associated with 36 CFR part 61 in consultation with State, Tribal, and local government partners. The obligation to respond is required to provide information to evaluate whether or not State, Tribal, and local governments meet minimum standards and requirements for participation in the National Historic Preservation Program; and to meet program specific requirements as well as government-wide requirements for Federal grant programs.

II. Data

OMB Control Number: 1024-0038.

Title: Procedures for State, Tribal, Local, Plans & Grants; 36 CFR 61.

Service Form Number(s): None.

Type of Request: Extension of a currently approved collection.

Description of Respondents: State, Tribal, and local governments who wish to participate formally in the National Historic Preservation Program and/or who wish to apply for Historic Preservation Fund grant assistance.

Respondent's Obligation: Required to obtain or retain a benefit.

Frequency of Collection: Annually.

Estimated Average Number of Respondents: 2,129 respondents (59 States, territories, and District of Columbia; 170 tribal governments; and 1,900 certified local governments).

Activity | Annual number of responses | Completion time per response (hours) | Total annual burden hours
Local Government Certification Application/Agreement | 40 | 39.75 | 1,590
Certified Local Government Monitoring | 1,860 | 7.25 | 13,485
Certified Local Government Evaluations | 465 | 12.00 | 5,580
Baseline Questionnaire for CLGs | 250 | 6.00 | 1,500
Annual Achievements Report for CLGs | 1,000 | 2.00 | 2,000
State Inventory Maintenance | 26,904 | .25 | 6,726
State Technical Assistance to Federal Agencies (Review & Compliance) | 25,370 | .25 | 6,343
Statewide Historic Preservation Plan | 14 | ¹ 797.00 | 11,158
State Program Review | 15 | 90.00 | 1,350
State Cumulative Products Table | 89 | 10.00 | 890
State Organization Chart and Staffing Summary | 30 | 2.00 | 60
State Anticipated Activities List | 30 | 5.75 | 173
State Project Notification | 59 | 1.50 | 89
State Final Project Report | 59 | 1.00 | 59
State Project/Activity Database Report | 59 | 18.25 | 1,077
State Sources of Non-Federal Matching Share Report | 52 | 2.25 | 117
State Significant Preservation Accomplishments Summary | 59 | 3.75 | 221
Annual Achievements Report for States | 25 | 2.25 | 56
Tribal Historic Preservation Office (THPO) Grants Product Summary Page | 150 | 15.50 | 2,325
THPO Annual Report | 150 | 23.00 | 3,450
Total | 56,680 |  | 58,249
¹ Includes 294 hours for public engagement, 121 hours for data and resource analysis, 283 hours for plan design and writing, and 90 hours for publishing/posting.

Estimated Annual Nonhour Cost Burden: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

IV. Authorities

The authorities for this action are the National Historic Preservation Act (NHPA) (54 U.S.C. 300101 et seq.) and the Paperwork Reduction Act of 1995 (44 U.S.C. 3501 et seq.).

Tim Goddard,
Information Collection Clearance Officer, National Park Service.

[FR Doc. 2017-15644 Filed 7-25-17; 8:45 am]

BILLING CODE 4312-52-P